LEGAL SERVICES CORPORATION

Sunshine Act Meetings of the Board of Directors Operations and Regulations Committee

Times and Dates: The Legal Services Corporation Board of Directors Operation and Regulations Committee will meet at 1 p.m., Eastern Daylight Time on March 20, 2007.

Location: The Legal Services Corporation, 3333 K Street, NW.—3rd Floor Conference Center, Washington, DC.

Status of Meetings: Open.

Matters to be Considered:

Open Session

1. Approval of agenda

2. Approval of the minutes of the Committee's January 19, 2007 meeting.

3. Consider and act on whether to recommend any or all of the following to the Board for their consideration:

(a) A resolution that confirms the right of Board members to access corporation records in connection with members' discharge of their fiduciary responsibilities and that clarifies that management has no legal authority to withhold records from Board members;

(b) A resolution that states that the board Chairman has no authority to act on the Board's behalf other than within the authority expressly given to him by Board action;

(c) A resolution that states that no member of the Board acting in any capacity can direct anyone to withhold Corporation records from other Board members for any reason and that members must be given an opportunity to decline available records;

(d) A resolution that permits Board member access to staff responsible for providing ongoing Board support so these employees can provide the support services needed by Board members, removing the access restriction currently imposed by the President's policy at least on these employees.

4. Consider and act on recommendation to the Board for the adoption of Employee Handbook.

5. Status report on Office of Inspector General's audits and Management's response on LSC's Office of Compliance and Enforcement, Office of Program Performance and Office of Information Management.

a. Management report.

b. OIG's report.

6. Status report on locality pay.

7. Consider and act on other business.

8. Other public comment.

9. Consider and act on adjournment of meeting.

CONTACT PERSON FOR INFORMATION: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: March 9, 2007.
Victor M. Fortuno,
Vice President for Legal Affairs, General Counsel & Corporate Secretary.

[FR Doc. 07-1210 Filed 3-9-07; 4:11 pm]

BILLING CODE 7050-01-P